DEPARTMENT OF HEALTH AND HUMAN SERVICES

Food and Drug Administration

[Docket No. 99F-1879]

BetzDearborn; Withdrawal of Food Additive Petition

AGENCY: Food and Drug Administration, HHS.

ACTION: Notice.

SUMMARY: The Food and Drug Administration (FDA) is announcing the withdrawal, without prejudice to a future filing, of a food additive petition (FAP 9B4671) proposing that the food additive regulations be amended to provide for the safe use of 2-bromo-2-nitro-1,3-propanediol as an antimicrobial for use in food-contact paper and paperboard.

FOR FURTHER INFORMATION CONTACT: Mark A. Hepp, Center for Food Safety and Applied Nutrition (HFS-215),Food and Drug Administration, 200 C St. SW., Washington, DC 20204, 202-418-3098.

SUPPLEMENTARY INFORMATION: In a notice published in the Federal Register of June 22, 1999 (64 FR 33306), FDA announced that a food additive petition (FAP 9B4671) had been filed by BetzDearborn, 4636 Somerton Rd., Trevose, PA 19053. The petition proposed to amend the food additive regulations in § 176.170 Components of paper and paperboard in contact with aqueous and fatty foods (21 CFR 176.170) to provide for the safe use of 2-bromo-2-nitro-1,3-propanediol as an antimicrobial for use in food-contact paper and paperboard. BetzDearborn has now withdrawn the petition without prejudice to a future filing (21 CFR 171.7).

Dated: June 23, 2000.
Alan M. Rulis,
Director, Office of Premarket Approval, Center for Food Safety and Applied Nutrition.

[FR Doc. 00-17603 Filed 7-11-00; 8:45 am]

BILLING CODE 4160-01-F